DEPARTMENT OF ENERGY

Federal Energy Regulatory Commission

[Project No. 2413-081-GA]

Georgia Power Company; Notice of Availability of Environmental Assessment

February 5, 2007.

In accordance with the National Environmental Policy Act of 1969 and the Federal Energy Regulatory Commission's (Commission) regulations, 18 CFR Part 380 (Order No. 486, 52 FR 47897), the Office of Energy Projects has reviewed an application for non-project use of project lands and waters at the Wallace Dam Project (FERC No. 2413), and has prepared an environmental assessment (EA) for the proposal. The proposed non-project use would be located on Lake Oconee in Putnam County, Georgia.

In the application, Georgia Power (licensee) requests Commission authorization to issue a commercial lease to Place Properties (Place) 1.92 acres of project land and water for continued use as a public and commercial/residential marina. Place would reconfigure and expand the existing marina (formerly, Branley's Marina) on the shoreline of Lake Oconee near the confluence of Lick Creek and the Oconee River, near Eatonton, Georgia. The marina's docks would serve the public and residents of a community adjoining the project boundary, known as “Southbay at Lake Oconee”.

The EA contains the staff's analysis of the potential environmental impacts of the proposal and concludes that approval of the proposal would not constitute a major federal action significantly affecting the quality of the human environment.

A copy of the EA is attached to a Commission Order entitled “Order Modifying and Approving Non-Project Use Of Project Lands And Waters” issued on February 2, 2007 (115 FERC ¶ 62,014) which is available for review at the Commission in the Public Reference Room, or it may be viewed on the Commission's Web site at http://www.ferc.gov using the eLibrary link. Enter the docket number (prefaced by P-2413) and excluding the last three digits, in the docket number field to access the document. For assistance, please contact FERC Online Support at FERCOnlineSupport@ferc.gov or toll-free (866) 208-3676, or for TTY, contact (202) 502-8659.

Magalie R. Salas,
Secretary.

[FR Doc. E7-2271 Filed 2-9-07; 8:45 am]

BILLING CODE 6717-01-P